DEPARTMENT OF TRANSPORTATION

Federal Aviation Administration

14 CFR Part 39

[Docket No. FAA-2016-6427; Directorate Identifier 2015-NM-200-AD]

RIN 2120-AA64

Airworthiness Directives; The Boeing Company

AGENCY: Federal Aviation Administration (FAA), DOT.

ACTION: Notice of proposed rulemaking (NPRM).

SUMMARY: We propose to supersede Airworthiness Directive (AD) 2007-11-13, which applies to all The Boeing Company Model 717-200 airplanes. AD 2007-11-13 currently requires revising the Airworthiness Limitations Section (ALS) of the Instructions for Continued Airworthiness to incorporate new removal limits for certain components of the flap system and to reduce the inspection interval s for fatigue cracking of principal structural elements (PSE). Since we issued AD 2007-11-13, a new Airworthiness Limitations Instructions (ALI) revision was released that incorporates nondestructive inspection (NDI) techniques and reduced repetitive inspection intervals for three PSEs. We have determined that these reduced intervals are necessary to address the unsafe condition. This proposed AD would require revising the maintenance or inspection program, as applicable, to incorporate reduced intervals for the inspections for three PSEs and add NDI techniques to the inspection process. We are proposing this AD to detect and correct fatigue cracking of certain PSEs. Such cracking could adversely affect the structural integrity of the airplane.

DATES: We must receive comments on this proposed AD by June 27, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Boeing Commercial Airplanes, Attention: Data & Services Management, 3855 Lakewood Boulevard, MC D800-0019, Long Beach, CA 90846-0001; telephone 206-544-5000, extension 2; fax 206-766-5683; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-6427; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Eric Schrieber, Aerospace Engineer, Airframe Branch, ANM-120L, FAA, Los Angeles Aircraft Certification Office (ACO), 3960 Paramount Boulevard, Lakewood, CA 90712-4137; phone: 562-627-5348; fax: 562-627-5210; email: eric.schrieber@faa.gov.

SUPPLEMENTARY INFORMATION:

Comments Invited

We invite you to send any written relevant data, views, or arguments about this proposed AD. Send your comments to an address listed under the ADDRESSES section. Include “Docket No. FAA-2016-6427; Directorate Identifier 2015-NM-200-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On June 29, 2007, we issued AD 2007-11-13, Amendment 39-15070 (72 FR 29237, May 25, 2007) (“AD 2007-11-13”), for all The Boeing Company Model 717-200 airplanes. AD 2007-11-13 requires revising the ALS of the Instructions for Continued Airworthiness to incorporate new removal limits for certain components of the flap system and to reduce the inspection intervals for fatigue cracking of PSEs. AD 2007-11-13 resulted from a revised damage tolerance analysis. We issued AD 2007-11-13 to detect and correct fatigue cracking of certain PSEs. Such cracking could adversely affect the structural integrity of the airplane.

Actions Since AD 2007-11-13 Was Issued

Since we issued AD 2007-11-13, a new ALI revision was released that incorporates NDI techniques and reduced repetitive inspection intervals for three PSEs. We have determined that these reduced intervals are necessary to address the unsafe condition.

Related Service Information Under 1 CFR Part 51

We reviewed Boeing 717-200, Report MDC-96K9063, Airworthiness Limitations Instructions, Revision 14, dated July 2015. The service information describes procedures for inspecting PSEs, and includes a change to reduce the interval inspections for three PSEs and adds NDI techniques to the inspection process. This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would retain all requirements of AD 2007-11-13. This proposed AD would require revising the maintenance or inspection program, as applicable, to incorporate reduced intervals for the inspections for three PSEs and add NDI techniques to the inspection process.

This proposed AD would require revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance according to paragraph (k) of this proposed AD. The request should include a description of changes to the required actions that will ensure the continued operational safety of the airplane.

Costs of Compliance

We estimate that this proposed AD affects 572 airplanes of U.S. registry.

We estimate the following costs to comply with this proposed AD:

Estimated Costs
Action | Labor cost | Cost per product | Cost on U.S. operators
Maintenance or inspection program revision | 1 work-hour × $85 per hour = $85 | $85 | $48,620

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2007-11-13, Amendment 39-15070 (72 FR 29237, May 25, 2007), and adding the following new AD:

The Boeing Company: Docket No. FAA- 2016-6427; Directorate Identifier 2015-NM-200-AD.

(a) Comments Due Date

The FAA must receive comments on this AD action by June 27, 2016.

(b) Affected ADs

This AD replaces AD 2007-11-13, Amendment 39-15070 (72 FR 29237, May 25, 2007) (“AD 2007-11-13”).

(c) Applicability

This AD applies to all The Boeing Company Model 717-200 airplanes, certificated in any category.

(d) Subject

Air Transport Association (ATA) of America Code 51, Standard practices/structures.

(e) Unsafe Condition

This AD was prompted due to a reduction in the repetitive inspection interval for three principal structural elements (PSE). We are issuing this AD to detect and correct fatigue cracking of certain PSEs. Such cracking could adversely affect the structural integrity of the airplane.

(f) Compliance

Comply with this AD within the compliance times specified, unless already done.

(g) Retained Revising of the Airworthiness Limitations Section (ALS) With Updated Service Information

This paragraph restates the requirements of paragraph (h) of AD 2007-11-13, with updated service information. Within 180 days after June 29, 2007 (the effective date of AD 2007-11-13): Revise the ALS of the Instructions for Continued Airworthiness, Airworthiness Limitations Instructions (ALI), in accordance with Boeing 717-200 ALI, Report MDC-96K9063, Revision 5, dated February 2006.

(h) Retained Provision Regarding Alternative Actions, Intervals With Updated Information

This paragraph restates the requirements of paragraph (i) of AD 2007-11-13, with updated information. Except as required by paragraph (i) of this AD: After the ALS has been revised as required by paragraph (g) of this AD, no alternative actions (e.g., inspections), intervals, may be used unless the actions, intervals, are approved as an alternative method of compliance (AMOC) in accordance with the procedures specified in paragraph (k) of this AD.

(i) New Maintenance or Inspection Program Revision

Within 180 days after the effective date of this AD: Revise the maintenance or inspection program, as applicable, to incorporate the information specified in Boeing 717-200 ALI, Report MDC-96K9063, Revision 14, dated July 2015. The initial compliance times for doing the actions specified in Boeing 717-200 ALI, Report MDC-96K9063, Revision 14, dated July 2015, are at the later of the times specified in paragraphs (i)(1) and (i)(2) of this AD. Compliance with this paragraph terminates the requirements of paragraph (g) of this AD.

(1) Within the applicable compliance times specified in Boeing 717-200 ALI, Report MDC-96K9063, Revision 14, dated July 2015.

(2) Within 180 days from the effective date of this AD.

(j) No Alternative Actions or Intervals

After the maintenance or inspection program has been revised as required by paragraph (i) of this AD, no alternative actions (e.g., inspections) or intervals may be used unless the actions or intervals are approved as an AMOC in accordance with the procedures specified in paragraph (k) of this AD.

(k) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l)(1) of this AD.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Los Angeles ACO, FAA, to make those findings. To be approved, the repair method, modification deviation, or alteration deviation must meet the certification basis of the airplane, and the approval must specifically refer to this AD.

(4) AMOCs approved previously for AD 2007-11-13 are not approved as AMOCs with this AD.

(l) Related Information

(1) For more information about this AD, contact Eric Schrieber, Aerospace Engineer, Airframe Branch, ANM-120L, FAA, Los Angeles ACO, 3960 Paramount Boulevard, Lakewood, CA 90712-4137; phone: 562-627-5348; fax: 562-627-5210; email: eric.schrieber@faa.gov.

(2) For service information identified in this AD, contact Boeing Commercial Airplanes, Attention: Data & Services Management, 3855 Lakewood Boulevard, MC D800-0019, Long Beach, CA 90846-0001; telephone 206-544-5000, extension 2; fax 206-766-5683; Internet https://www.myboeingfleet.com. You may view this service information at the FAA, Transport Airplane Directorate, 1601 Lind Avenue SW., Renton, WA. For information on the availability of this material at the FAA, call 425-227-1221.

Issued in Renton, Washington, on April 28, 2016.
Dionne Palermo,
Acting Manager, Transport Airplane Directorate, Aircraft Certification Service.

[FR Doc. 2016-10740 Filed 5-10-16; 8:45 am]

BILLING CODE 4910-13-P